DEPARTMENT OF AGRICULTURE

Office of the Secretary

Solicitation of Applicants for Membership on a National Board on Rural America

AGENCY: Office of the Secretary, USDA.

ACTION: Notice.

SUMMARY: The Consolidated Farm and Rural Development Act (7 U.S.C. 1921 et seq.) was amended by section 6030 of the Farm Security and Rural Investment Act of 2002 (Pub. L. 107-171) to create the National Board on Rural America. The Act provides that the Board shall consist of 14 members appointed by the Secretary. This notice solicits candidates interested in serving on this Board. Qualifications for candidates are specified in the SUPPLEMENTARY INFORMATION section of this Notice. Other than recommendations by elected members of Federal, State or county governments, nominations will be accepted from organizations only and should be on the organization's letterhead. Nominations from individuals, either for themselves or others, will not be considered.

DATES: Submit a completed application by 5:00 p.m. on July 19, 2002.

ADDRESSES: Submit completed written applications to the Office of the Under Secretary, Rural Development. ATTN: Duane Ischer. 1400 Independence Avenue, SW., Room 206-W, STOP 0107, Washington, DC 20250-0107 or by FAX to 202-720-2080. To ensure timely delivery, nominations may be faxed to (202) 720-2080.

FOR FURTHER INFORMATION CONTACT: Duane Ischer, Office of the Under Secretary, Rural Development, 202-720-2721. E-Mail: Duane.Ischer@USDA.GOV.

SUPPLEMENTARY INFORMATION: The Act provides that, in addition to the Secretary or the designee of the Secretary, the National Board shall consist of 14 members appointed by the Secretary from among representatives of:

(1) Nationally recognized entrepreneurship organizations;

(2) Regional planning and development organizations;

(3) Community-based organizations;

(4) Elected members of county governments;

(5) Elected members of State legislatures;

(6) The rural philanthropic community; and

(7) Indian tribes (as defined in section 4 of the Indian Self-Determination and Education Assistance Act (25 U.S.C. 450b).

An AD Form 755, Nominee Background Information, is required for each nominee. A copy of the AD Form 755 is available on the USDA Rural Development Web site at http://www.rurdev.usda.gov/rd/farmbill2002.html.

The term of office initially will be 4 years for 5 members, 3 years for 5 members, and 2 years for 4 members. After the initial term, the term will be for 4 years.

The responsibilities of the board include developing a national strategic investment plan for rural America and overseeing the delivery of planning and innovation grants to regional boards.

Dated: June 27, 2002.
Ann M. Veneman,
Secretary.

[FR Doc. 02-16825 Filed 7-3-02; 8:45 am]

BILLING CODE 3410-XY-M